DEPARTMENT OF VETERANS AFFAIRS

Advisory Committee on Homeless Veterans, Notice of Meeting

The Department of Veterans Affairs (VA) gives notice under the Federal Advisory Committee Act, 5 U.S.C. 10, that the Advisory Committee on Homeless Veterans meetings will be held on April 11-April 13, 2023. The meeting sessions will begin and end as follows:

Date | Time | Open session
April 11, 2023 | 9:00 a.m.-4:30 p.m. Eastern Standard Time (EST) | Yes.
April 12, 2023 | 9:00 a.m.-4:30 p.m. EST | No.
April 13, 2023 | 9:00 a.m.-4:30 p.m. EST | No.

The purpose of the Committee is to provide the Secretary of Veterans Affairs with an ongoing assessment of the effectiveness of the policies, organizational structures, and services of VA in assisting Veterans at risk of and experiencing homelessness. The Committee shall assemble and review information related to the needs of homeless Veterans and provide advice on the most appropriate means of assisting this Veteran population.

On April 11, 2023, the meeting will be a hybrid, held in-person at the Baltimore VA Medical Center, 10 North Greene Street (Room 3A-300), Baltimore, MD 21201; and virtually via Zoom conferencing. A limited number of public stakeholder seats will be available due to ongoing health and safety protocols that are enforced by the Baltimore VA Medical Center. Please note: masked may be required during the meeting. The agenda will include briefings from officials at VA and other federal, state and local agencies regarding services for homeless Veterans.

On April 12 and April 13, 2023, the Committee will conduct tours of VA and other Veteran service facilities and administrative workgroup sessions. Tours of VA and Veteran service facilities are closed, to protect Veterans' privacy and personal information in accordance with 5 U.S.C. 552b(c)(6).

No time will be allocated at the meeting for receiving oral presentations from the public. Interested parties should provide written comments on issues affecting homeless Veterans for review by the Committee to Anthony Love, Designated Federal Officer, Veterans Health Administration Homeless Programs Office (11HPO), U.S. Department of Veterans Affairs, 811 Vermont Avenue NW (11HPO), Washington, DC 20420, or via email at achv@va.gov.

Approximately 15 seats will be available for public stakeholders in attendance. The limited number of seating is due to the capacity of the meeting room as well as to ongoing health and safety protocols that are enforced by the Baltimore VA Medical Center. In order to accommodate your in-person attendance, please notify Anthony Love, Designated Federal Officer, Veterans Health Administration, Homeless Program Office at achv@va.gov. Additionally, members of the public who wish to attend the April 11, 2023 meeting virtually, please notify Mr. Love no later than March 30, 2023, providing their name, professional affiliation, email address, and phone number. Attendees who require reasonable accommodations should also state so in their requests. The meeting link and call-in number is noted below:

Join Zoom Meeting: https://us06web.zoom.us/j/82603032033.

Meeting ID: 826 0303 2033.

One Tap Mobile

+13017158592,,82603032033# US (Washington DC)

+13126266799,,82603032033# US (Chicago)

Dial By Location

+1 301 715 8592 US (Washington DC)

+1 312 626 6799 US (Chicago)

+1 646 558 8656 US (New York)

+1 646 931 3860 US

+1 305 224 1968 US

+1 309 205 3325 US

+1 564 217 2000 US

+1 669 444 9171 US

+1 689 278 1000 US

+1 719 359 4580 US

+1 720 707 2699 US (Denver)

+1 253 205 0468 US

+1 253 215 8782 US (Tacoma)

+1 346 248 7799 US (Houston)

+1 360 209 5623 US

+1 386 347 5053 US

+1 507 473 4847 US

Find your local number: https://us06web.zoom.us/u/kBPl6Cofa.

Dated: March 28, 2023.
Jelessa M. Burney,
Federal Advisory Committee Management Officer.

[FR Doc. 2023-06721 Filed 3-30-23; 8:45 am]

BILLING CODE P